DEPARTMENT OF THE INTERIOR

National Park Service

[NPS-WASO-NAGPRA-NPS0039422; PPWOCRADN0-PCU00RP14.R50000]

Notice of Inventory Completion: Museum of Us, San Diego, CA

AGENCY: National Park Service, Interior.

ACTION: Notice.

SUMMARY: In accordance with the Native American Graves Protection and Repatriation Act (NAGPRA), the Museum of Us has completed an inventory of human remains and associated funerary objects and has determined that there is a cultural affiliation between the human remains and associated funerary objects and Indian Tribes or Native Hawaiian organizations in this notice.

DATES: Repatriation of the human remains and associated funerary objects in this notice may occur on or after April 16, 2025.

ADDRESSES: Carmen Mosley, NAGPRA Repatriation Manager, Museum of Us, 1350 El Prado, Balboa Park, San Diego, CA 92101, telephone (619) 239-2001 Ext. 42, email cmosley@museumofus.org.

SUPPLEMENTARY INFORMATION: This notice is published as part of the National Park Service's administrative responsibilities under NAGPRA. The determinations in this notice are the sole responsibility of the Museum of Us, and additional information on the determinations in this notice, including the results of consultation, can be found in the inventory or related records. The National Park Service is not responsible for the determinations in this notice.

Abstract of Information Available

Based on the information available, human remains representing, at least, two individuals have been reasonably identified. The 3,081 associated funerary objects are from seven sites.

The 359 associated funerary objects removed from Hollister Mound (CV-5; CA-SAC-21) in Sacramento County, CA include one lot of carbonized textile and basketry material, one lot of carbonized pine nut seeds, one lot of carbonized vegetal material, one lot of screened burial material, three red ochre lumps, five charmstone fragments, one grooved stone, one stone fragment, one stone discoidal, three baked clay objects, one incised bird bone tube, 338 Haliotis ornament pieces, one pottery sherd, and one lot of mixed beads.

Human remains representing, at least, one individual, and 916 associated funerary objects removed from Johnson Mound (CV-8; CA-SAC-6) in Sacramento County, CA include 280 baked clay objects, 113 projectile points, 25 chipped stone implements, five slate ornaments, two miniature stone dishes, two charmstones, two stone ear plugs, six steatite pipes and fragments, one small mortar, one stone discoidal, one grinding slab, three red ochre lumps, three miscellaneous stones, one lot of carbonized basketry and cordage, 12 strings of Olivella beads, 27 loose mixed shell beads, four strings of stone beads, six loose glass trade beads, three loose stone beads, one small lot of mixed loose beads, 334 Haliotis ornaments pieces, one perforated clam shell blank, three bipointed bone implements, seven incised bird bone fragments, 34 fish bone gorges, 12 faunal bone fragments, four miscellaneous stones, 19 faunal bone awls and awl fragments, one antler implement, one lot of cremation material, one lot of carbonized textile material, and one lot of carbonized seeds.

The 69 associated funerary objects removed from Calhoun Mound (CV-9; CA-SAC-113) in Sacramento County, CA include three strings of clam shell beads, 29 Haliotis ornaments, three bone implements, three incised bird bone tubes, 15 projectile points, two obsidian Stockton Curves, three stone discoidals, two mineral specimens, eight baked clay objects, and one lot of loose carbonized seeds.

The 28 associated funerary objects removed from Eichenberger Mound (CV-19; CA-SAC-122) in Sacramento County, CA include 24 Haliotis ornaments, three steatite pipes, and one hatband decorated with Olivella shell beads.

The 102 associated funerary objects removed from Woodward/Drescher Mound (CV-20; CA-SAC-109) in Sacramento County, CA include 81 Haliotis ornaments, one perforated bone implement, one bone disc bead, five bird bone beads, one lot miscellaneous burial material, three smooth pebbles, two strings of clam shell disc beads, one mixed lot of faunal bone and shell beads, two baked clay objects, two quartz crystals, one bone awl, one bone tube, and one stone discoidal fragment.

The three associated funerary objects removed from Booth Mound (CV-25; CA-SAC-126) in Sacramento County, CA include three strings of Olivella beads.

Human remains representing, at least, one individual, and 1,604 associated funerary objects removed from CV-31, Central Valley, CA include 211 projectile points, seven obsidian knives, one lot of obsidian chips and flakes, 213 chipped stones, 225 Haliotis ornaments, six lots of miscellaneous mixed material, 39 baked clay objects, one clay pipe liner, 10 steatite pipe fragments, 182 strings of glass beads, 25 faunal bone beads, four faunal bone whistles, nine strings of Olivella beads, four strings of stone beads, 12 loose stone beads, nine strings of clam shell beads, one Haliotis disc bead, one red ochre piece, 500 loose Olivella beads, 66 obsidian bangles, three burial accumulations, one cremation accumulation, three bone awls, two flat bone implements, one small lot of work faunal bone, 46 containers of glass beads, three mammalian vertebrae, two jars of historic beads, five bird bone tubes, one lot of carbonized acorns, one grinding slab, two lots of mixed material beads, one lot of mixed shell ornaments, one lot of carbonized vegetal material, one lot of mixed stones, three lots of carbonized cordage and textile material, one lot of carded Haliotis ornaments, and one lot of carded shell money.

Between 1930 and 1936, the ancestral remains and 3,081 associated funerary objects were removed by Henry Gibbs, a private collector and looter. In 1937, Paul A. Walker purchased Gibbs' Central Valley, California archeological collection. Walker was an amateur archeologist and collector who worked by himself and with other amateur archeologists, and in collaboration with the University of California and Sacramento Junior College. Over the course of his life, Walker amassed an extensive archeological collection from California's Central Valley and smaller collections from Northern and Southern California, and outside of California. In 1968, Walker's private archeological collection was acquired by the San Diego Museum of Man (now Museum of Us) through a purchase/donation transaction with Walker's widow, Bessie B. Walker.

Cultural Affiliation

Based on the information available and the results of consultation, cultural affiliation is clearly identified by the information available about the human remains and associated funerary objects described in this notice.

Determinations

The Museum of Us has determined that:

• The human remains described in this notice represent the physical remains of two individuals of Native American ancestry.

• The 3,081 objects described in this notice are reasonably believed to have been placed intentionally with or near individual human remains at the time of death or later as part of the death rite or ceremony.

• There is a connection between the human remains and associated funerary objects described in this notice and the Ione Band of Miwok Indians of California and the Wilton Rancheria, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 16, 2025. If competing requests for repatriation are received, the Museum of Us must determine the most appropriate requestor prior to repatriation. Requests for joint repatriation of the human remains and associated funerary objects are considered a single request and not competing requests. The Museum of Us is responsible for sending a copy of this notice to the Indian Tribes and Native Hawaiian organizations identified in this notice.

Authority: Native American Graves Protection and Repatriation Act, 25 U.S.C. 3003, and the implementing regulations, 43 CFR 10.10.

Dated: January 28, 2025.
Melanie O'Brien,
Manager, National NAGPRA Program.

[FR Doc. 2025-04198 Filed 3-14-25; 8:45 am]

BILLING CODE 4312-52-P